SMALL BUSINESS ADMINISTRATION

Committee Member Nominations Sought Notice; Interagency Task Force on Veterans Business Development

AGENCY: U.S. Small Business Administration.

ACTION: Notice of open nominations for veteran service organizations, military service organizations, or association representatives for the Interagency Task Force on Veterans Small Business Development.

SUMMARY: The U.S. Small Business Administration seeks member nominations from veteran service organizations, military service organizations, or associations to serve on the Interagency Task Force on Veterans Business Development.

DATES: Nomination applications due by 11:59 p.m. (EST), 14 October 2016.

ADDRESSES: Send nominations to veteransbusiness@sba.gov.

SUPPLEMENTARY INFORMATION: The U.S. Small Business Administration (SBA) seeks member nominations from veteran service organizations (VSO), military service organizations (MSO), or associations to serve on the Interagency Task Force on Veterans Small Business Development (IATF). Nominations of eligible representatives must be sent via email to veteransbusiness@sba.gov. The submission deadline for nominations is Oct. 14, 2016.

Additional Information: Applicants should include the following information:

• Name and contact information of the individual

• Name and contact information of represented organization

• Description of how the organization supports veteran and service-disabled owned small business issues

• If nominee is a member of a local chapter of a national VSO, a national-level VSO endorsement letter is required.

The SBA Administrator will appoint individuals who will serve on the IATF for a period of three years.

The IATF was established February 14, 2008 by Public Law 110-186 and executed by Executive Order. The Task Force is chaired by the U.S. Small Business Administration and is comprised of representatives from the Department of Defense, the Department of Labor, the Department of Treasury, the Department of Veterans Affairs, the General Services Administration, the Office of Management and Budget (OMB), and four representatives from veterans service organizations, military service organizations, or associations.

On Aug. 13, 2014, OMB published in the Federal Register revised guidance on individuals who are not eligible to serve on federal advisory committees. In accordance with OMB guidance, the President directed agencies and departments in the Executive Branch not to appoint or re-appoint federally registered lobbyists to advisory committees and other boards and commissions.

Dated: October 3, 2016.
Miguel J. L'Heureux,
SBA Committee Management Officer.

[FR Doc. 2016-24533 Filed 10-11-16; 8:45 am]

BILLING CODE P